DEPARTMENT OF HEALTH AND HUMAN SERVICES

Centers for Disease Control and Prevention

National Health and Nutrition Examination Survey (NHANES) DNA Samples

AGENCY: Centers for Disease Control and Prevention (CDC), Department of Health and Human Services (DHHS).

ACTION: Notice.

SUMMARY: The National Health and Nutrition Examination Survey (NHANES) will not be receiving DNA proposals in the near future. NHANES is changing its plan for making DNA available for genetic research and its proposal guidelines. NHANES will announce when it will reopen its repository for use of DNA specimens for research protocols once it has developed its new plan of operation.

DATES: Effective date is date of publication in the Federal Register.

ADDRESSES: Geraldine McQuillan, Ph.D., Division of Health and Nutrition Examination Surveys, National Center for Health Statistics, Centers for Disease Control and Prevention, 3311 Toledo Road, Room 4204, Hyattsville, MD 20782, Phone: 301-458-4371, Fax: 301-458-4028, EMail: NHANESgenetics@cdc.gov.

FOR FURTHER INFORMATION CONTACT: Dr. Geraldine McQuillan, Division of Health and Nutrition Examination Surveys, National Center for Health Statistics, Centers for Disease Control and Prevention, 3311 Toledo Road, Room 4204, Hyattsville, MD 20782, Phone: 301-458-4371, Fax: 301-458-4028, E-Mail: NHANESgenetics@cdc.gov.

Juliana Cyril,
Deputy Director, Office of Science Quality, Office of the Associate Director for Science, Centers for Disease Control and Prevention.

[FR Doc. 2012-14056 Filed 6-8-12; 8:45 am]

BILLING CODE 4163-18-P